ENVIRONMENTAL PROTECTION AGENCY

[FRL-6853-3]

Notice of Availability of Draft Aquatic Life Criteria Document for Cadmium

AGENCY: Environmental Protection Agency (EPA).

ACTION: Notice of availability of draft Aquatic Life Criteria Document for Cadmium.

SUMMARY: Section 304(a)(1) of the Clean Water Act requires the Environmental Protection Agency (EPA) to develop and publish, and from time to time revise, criteria for water accurately reflecting the latest scientific knowledge. EPA is revising its aquatic life criteria for cadmium. Today, EPA is notifying the public about the availability of the draft document and is also announcing that the draft document is ready to undergo peer review.

EPA is notifying the public about the availability of this draft document and its peer review in accordance with the Agency's new process for developing or revising criteria (63 FR 68354, December 10, 1998). As indicated in the December 10, 1998 FR notice, the Agency believes it is important to provide the public with an opportunity to submit scientific information on draft criteria. EPA is soliciting views from the public on issues of science pertaining to the information used in deriving the draft criteria.

DATES: All significant scientific information must be submitted to the Agency under docket number W-00-15. All significant scientific information submissions are requested to be submitted within 60 days after publication of this notice. Information submitted after this date may not receive the degree of consideration of information submitted earlier. The Administrative Record supporting this draft guidance document is available at the Water Docket, Room EB-57, Environmental Protection Agency, 401 M Street SW., Washington, DC 20460 on Monday through Friday, excluding Federal holidays, between 9:00 a.m. and 4:00 p.m. For access to docket materials call (202) 260-3027 for an appointment. A reasonable fee will be charged for photocopies.

ADDRESSES: Send an original and three copies of any written significant scientific information to W-00-15 Comment Clerk, Water Docket, Ariel Rios 1200 Pennsylvania Ave., NW., Washington, DC 20460. Comments may be hand-delivered to the Water Docket, Room EB57, 401 M Street, SW., Washington, DC 20460. Issues may also be submitted electronically to OW-Docket@epa.gov. Information should be submitted as a WP5.1, 6.1 and/or 8.0 or an ASCII file with no form of encryption.

Copies of the draft criteria document entitled, 2000 Update of Ambient Water Quality Criteria for Cadmium, may be obtained from EPA's Water Resource Center by phone at (202) 260-7786, or by e-mail to center.water-resource@epa.gov or by conventional mail to EPA Water Resource Center, RC-4100, 401 M Street SW., Washington, DC 20460. Alternatively, consult www.epa.gov/OST/standards for download availability.

FOR FURTHER INFORMATION CONTACT: Cindy Roberts, Health and Ecological Criteria Division (4304), US EPA, Ariel Rios Building, 1200 Pennsylvania Avenue NW., Washington, DC 20460; (202) 260-2787; roberts.cindy@epa.gov

SUPPLEMENTARY INFORMATION:

What Are Water Quality Criteria?

Section 304(a)(1) of the Clean Water Act requires the EPA to develop and publish, and from time to time revise, criteria for water accurately reflecting the latest scientific knowledge. Water quality criteria developed under section 304(a) are based solely on data and scientific judgments. They do not consider economic impacts or the technological feasibility of meeting the criteria in ambient water. Section 304(a) criteria provide guidance to States and Tribes in adopting water quality standards and provide a scientific basis for them to develop controls of discharges or releases of pollutants. The criteria also provide a scientific bases for EPA to develop Federal regulations under section 303(c).

Why Is EPA Notifying the Public About the Draft Cadmium Document and Peer Review?

Today, EPA is notifying the public about the availability of the draft aquatic life criteria document for cadmium and its peer review to expand the public's involvement in the criteria development process.

In following the Agency's new process, EPA notified the public of its intentions to revise the aquatic life criteria for cadmium in the Federal Register on October 29, 1999 (64 FR 58409). At that time EPA made available to the public all references identified by a recent literature review and solicited any additional pertinent data or scientific views that would be useful in revising the aquatic life criteria. EPA revised the aquatic life criteria for cadmium based on the new data and now has a draft document that is ready to undergo peer review.

As indicated in the December 10, 1998 FR notice, the Agency believes it is important to provide the public with an opportunity to submit scientific information on draft criteria. EPA is soliciting views from the public on issues of science pertaining to the information used in deriving the draft criteria. EPA will review and consider significant scientific information submitted by the public that might not have otherwise been identified during development of these criteria.

Where Can I Find More Information on EPA's Revised Process for Developing New or Revised Criteria?

The Agency published detailed information about its revised process for developing and revising criteria in the Federal Register on December 10, 1998 (63 FR 68354) and in the EPA document entitled, National Recommended Water Quality—Correction (EPA 822-Z-99-001, April 1999). The purpose of the revised process is to provide expanded opportunities for public input, and to make the criteria development process more efficient.

Jeanette Wiltse,
Acting Director, Office of Science and Technology.

[FR Doc. 00-20972 Filed 8-16-00; 8:45 am]

BILLING CODE 6560-50-P